INTERNATIONAL TRADE COMMISSION

[Inv. No. 731-TA-1012 (Third Review)]

Certain Frozen Fish Fillets From Vietnam; Cancellation of Hearing for Third Full Five-Year Review

AGENCY: United States International Trade Commission.

ACTION: Notice.

DATES: September 8, 2020.

FOR FURTHER INFORMATION CONTACT: Stamen Borisson (202) 205-3125, Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: Effective May 11, 2020, the Commission established a schedule for the conduct of this review (85 FR 28981, May 14, 2020). Counsel for Catfish Farmers of America, an association of domestic catfish growers and processors, and individual U.S. catfish processors America's Catch; Alabama Catfish, LLC d/b/a Harvest Select Catfish, Inc.; Consolidated Catfish Companies, LLC d/b/a Country Select Catfish; Guidry's Catfish, Inc.; Heartland Catfish Company; Magnolia Processing, Inc. d/b/a Pride of the Pond; and Simmons Farm Raised Catfish, Inc., domestic producers, filed a request to appear at the hearing. Counsel for the domestic parties also filed a request for consideration of cancellation of the hearing. Counsel indicated a willingness to submit written responses to any Commission questions in lieu of an actual hearing. No other party has entered an appearance in this review. Upon consideration of the request, the Commission determined that, in lieu of the public hearing in connection with this review, scheduled to begin at 9:30 a.m. on Tuesday, September 15, 2020, interested parties who timely made a request to appear at the hearing are invited to respond to any written questions posed by the Commission in their posthearing briefs, which are due to be filed on September 22, 2020.

For further information concerning this review see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

By order of the Commission.
Issued: September 10, 2020.
Lisa Barton,
Secretary to the Commission.

[FR Doc. 2020-20411 Filed 9-15-20; 8:45 am]

BILLING CODE 7020-02-P